DEPARTMENT OF COMMERCE

National Oceanic and Atmospheric Administration

Agency Information Collection Activities; Submission to the Office of Management and Budget (OMB) for Review and Approval; Comment Request; Office of Marine and Aviation Operations: Occupational Health, Safety, and Readiness Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 12, 2024 during a 60-day comment period. This notice allows for an additional 30 days for public comments.

Agency: National Oceanic and Atmospheric Administration, Commerce.

Title: Office of Marine and Aviation Operations: Occupational Health, Safety, and Readiness Forms.

OMB Control Number: 0648-0824.

Form Number(s): Medical: 57-10-01, 57-10-02, 57-10-05. Safety: 57-17-02, 57-17-09. Small Boat: 57-19-04.

Type of Request: Regular submission [revision to an approved information collection].

Number of Respondents: 1,515.

Average Hours Per Response: Response time varies based on the form. Form may take as little as 5 minutes to complete or as long as 30 minutes.

Total Annual Burden Hours: 537.

Needs and Uses: This is a request for approval of a revision and extension to a collection currently in use with OMB approval. The NOAA Health Services Questionnaire NF 57-10-01 is being revised to include supportive questions to document previous sailing dates and clarifying medical information within NF 57-10-01 to ensure OMAO has a complete medical history for all personnel aboard NOAA vessels. These changes are not expected to change the burden response time.

The National Oceanic and Atmospheric Administration's (NOAA) Office of Marine and Aviation Operations (OMAO) manages and operates NOAA's fleet of 15 research and survey ships and nine specialized environmental data-collecting aircraft. Comprised of civilians and officers of the NOAA Commissioned Officer Corps, OMAO also manages the NOAA Diving Program, NOAA Small Boat Program, and NOAA Uncrewed Systems Operations Center.

The research and survey ships operated, managed, and maintained by OMAO comprise the largest fleet of federal research ships in the nation. Ranging from large oceanographic research vessels capable of exploring the world's deepest ocean, to smaller ships responsible for charting the shallow bays and inlets of the United States, the fleet supports a wide range of marine activities including fisheries surveys, nautical charting, and ocean and climate studies.

NOAA aircraft operate throughout the world providing a wide range of capabilities including hurricane reconnaissance and research, marine mammal and fisheries assessment, and coastal mapping. NOAA aircraft carry scientists and specialized instrument packages to conduct research for NOAA's missions.

Housed within the NOAA Office of Marine and Aviation Operations and staffed by the U.S. Public Health Service (USPHS) Commissioned Corps officers, the Office of Health Services (OHS) is charged with directly supporting all personnel within the National Oceanic and Atmospheric Administration (NOAA).

NOAA medical officers work to maximize deployment readiness and minimize medically related disruptions to fleet, aircraft, and diving operations. OHS programs assess and promote mental and physical readiness within their operational medical discipline. Given the austere and geographically remote operational environments OHS supports, our officers are also responsible for preventing and containing disease in operational environments as subject matter experts in travel medicine. The forms contained in this collection will be used to make medical readiness recommendations for individuals and to key leadership in operational environments.

Affected Public: Individuals.

Frequency: As needed.

Respondent's Obligation: Required to Obtain or Retain Benefits.

Legal Authority: NAO 205-1, NOAA Records Management Program and 33 U.S.C. 941.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Clearance Officer, Office of the Under Secretary for Economic Affairs, Commerce Department.

[FR Doc. 2025-01314 Filed 1-17-25; 8:45 am]

BILLING CODE 3510-12-P